DEPARTMENT OF HOMELAND SECURITY

Coast Guard

33 CFR Part 100

[Docket No. USCG-2025-0122]

Special Local Regulation; Kailua Bay, Ironman World Championship, Kailua-Kona, HI

AGENCY: Coast Guard, DHS.

ACTION: Notification of enforcement of regulation.

SUMMARY: The Coast Guard will enforce a special local regulation for the Ironman Ho'ala practice swim and Ironman World Championship Triathlon on October 5 and 11, 2025, to provide for the safety of life on navigable waterways during these events. Our regulation for marine events within the USCG Oceania District (formerly known as the Fourteenth Coast Guard District) identifies the regulated area for this event on certain waters of Kailua Bay, Kailua-Kona, Hawaii. During the enforcement periods, the operator of any vessel in the regulated area must comply with directions from the Patrol Commander or any Official Patrol displaying a Coast Guard ensign.

DATES: The regulations in 33 CFR 100.1402 will be enforced from 3:45 a.m. to 11:00 a.m. on October 5 and 11, 2025.

FOR FURTHER INFORMATION CONTACT: If you have questions about this notification of enforcement, call or email MST1 Bradley Snyder, Waterways Management Division, U.S. Coast Guard Sector Honolulu; telephone (808) 541-4374, email William.a.snyder@uscg.mil.

SUPPLEMENTARY INFORMATION: The Coast Guard will enforce the special local regulation for the Ironman Ho'ala practice swim and Ironman World Championship Triathlon from 3:45 a.m. to 11 a.m. on October 5 and 11, 2025. This action is being taken to provide for the safety of life on navigable waterways during this event. Our regulation for marine events within the USCG Oceania District (formerly the Fourteenth Coast Guard District), § 100.1402, identifies the regulated area for this event. The regulated area covers all navigable waters of Kailua Bay within 100 yards adjacent to the 2.24 mile (4,224 yards) swim course, starting at the shoreline northeast of Kailua Pier at 19°38.341′ N, 155°59.782′ W; thence southeast to 19°37.416′ N, 155°59.444′ W; thence southwest to 19°37.397′ N, 155°59.500′ W; thence northwest to 19°38.150′ N, 155°59.760′ W, thence north and back to Kailua Pier at 19°38.398′ N, 155°59.816′ W, and returning along the pier to the originating point on the shoreline at 19°38.341′ N, 155°59.782′ W. All coordinate data are NAD 83. During the enforcement periods, the operator of any vessel in the regulated area must comply with directions from the Patrol Commander or any Official Patrol displaying a Coast Guard ensign.

Entry into, transiting, or anchoring within the special local regulation is prohibited unless authorized by the Captain of the Port Honolulu or their designated on-scene representative. The Captain of the Port's designated on-scene representative may be contacted via VHF Channel 16.

In addition to this publication in the Federal Register, the Coast Guard will provide the maritime community with advance notification of the enforcement of this special local regulation via Broadcast Notice to Mariners.

N.S. Worst,
Captain, U.S. Coast Guard, Captain of the Port Sector Honolulu.

[FR Doc. 2025-17016 Filed 9-4-25; 8:45 am]

BILLING CODE 9110-04-P